INTERNATIONAL TRADE COMMISSION

[Investigation Nos. 701-TA-712-714 and 731-TA-1679-1681 (Final)]

Ferrosilicon From Brazil, Kazakhstan, and Malaysia; Supplemental Schedule for the Final Phase of Countervailing Duty and Antidumping Duty Investigations

AGENCY: United States International Trade Commission.

ACTION: Notice.

DATES: March 28, 2025.

FOR FURTHER INFORMATION CONTACT: Keysha Martinez ((202) 205-2136), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective June 28, 2024, the Commission established a general schedule for the conduct of the final phase of its countervailing duty and antidumping duty investigations on ferrosilicon from Brazil, Kazakhstan, Malaysia, and Russia (89 FR 56407, July 9, 2024), following preliminary determinations by the U.S. Department of Commerce (“Commerce”) that imports of ferrosilicon from Russia are being subsidized by the government of Russia and are being sold at less than fair value (“LTFV”) (89 FR 53949 and 53953, June 28, 2024). Notice of the scheduling of the final phase of the Commission's investigations and of a public hearing held in connection therewith was given by posting copies of the notice in the Office of the Secretary, U.S. International Trade Commission, Washington, DC, and by publishing the notice in the Federal Register on July 9, 2024 (89 FR 56407). The Commission conducted its in-person hearing on September 12, 2024. All persons who requested the opportunity were permitted to participate.

On September 18, 2024, Commerce issued final affirmative countervailing duty and antidumping duty determinations with respect to ferrosilicon from Russia (89 FR 76450 and 76454). The Commission subsequently issued its final determinations that an industry in the United States was materially injured by reason of imports of ferrosilicon from Russia provided for in subheadings 7202.21 and 7202.29 of the Harmonized Tariff Schedule of the United States (“HTSUS”) that have been found by Commerce to be subsidized by the government of Russia and to be sold at LTFV (89 FR 88814, November 8, 2024).

On March 28, 2025, Commerce's final affirmative countervailing duty and antidumping duty determinations with respect to imports of ferrosilicon from Brazil, Kazakhstan, and Malaysia were published in the Federal Register (90 FR 14075, 14077, 14105, 14108, 14112, and 14114). Accordingly, the Commission currently is issuing a supplemental schedule for its countervailing duty and antidumping duty investigations on imports of ferrosilicon from Brazil, Kazakhstan, and Malaysia.

This supplemental schedule is as follows: the deadline for filing supplemental party comments on Commerce's final countervailing duty and antidumping duty determinations is 5:15 p.m. on April 11, 2025. Supplemental party comments may address only Commerce's final countervailing duty and antidumping duty determinations regarding imports of ferrosilicon from Brazil, Kazakhstan, and Malaysia. These supplemental final comments may not contain new factual information and may not exceed five (5) pages in length. The supplemental staff report in the final phase of the current investigations will be placed in the nonpublic record on April 23, 2025, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: This proceeding is being conducted under authority of title VII of the Tariff Act of 1930; this notice is published pursuant to section 207.21 of the Commission's rules.

By order of the Commission.
Issued: March 31, 2025.
Lisa Barton,
Secretary to the Commission.

[FR Doc. 2025-05789 Filed 4-3-25; 8:45 am]

BILLING CODE 7020-02-P